DEPARTMENT OF COMMERCE

National Oceanic and Atmospheric Administration

RIN 0648-XC653

Endangered and Threatened Species; Take of Anadromous Fish

AGENCY: National Marine Fisheries Service (NMFS), National Oceanic and Atmospheric Administration (NOAA), Commerce.

ACTION: Notice of receipt and request for comment.

SUMMARY: Notice is hereby given that NMFS has received an application for a direct take permit, in the form of a Hatchery and Genetic Management Plan (HGMP), pursuant to the Endangered Species Act of 1973, as amended (ESA). The application is for a hatchery program in Idaho, for the propagation of sockeye salmon. The proposed permit would be issued for a period of 10 years. This document serves to notify the public of the availability of the permit application for public review, comment, and submission of written data, views, arguments, or other relevant information. This document also serves to notify the public of NMFS' intent to adopt an existing environmental assessment that addresses the proposed Snake River sockeye salmon hatchery program. All comments and other information received will become part of the public record and will be available for review pursuant to section 10(c) of the ESA.

DATES: Comments and other submissions must be received at the appropriate address or fax number (see ADDRESSES) no later than 5 p.m. Pacific time on June 3, 2013.

ADDRESSES: Written responses to the application and the proposed adoption of the associated environmental assessment should be sent to Craig Busack, National Marine Fisheries Services, Salmon Management Division, 1201 N.E. Lloyd Boulevard, Suite 1100, Portland, OR 97232. Comments may also be submitted by email to: SockeyePlan.nwr@noaa.gov. Include in the subject line of the email comment the following identifier: Comments on Snake River sockeye salmon hatchery plan. Comments may also be sent via facsimile (fax) to (503) 872-2737. The permit application and associated documents are available on the Internet at www.nwr.noaa.gov. Requests for copies of the permit application and associated documents may also be directed to the National Marine Fisheries Services, Salmon Management Division, 1201 N.E. Lloyd Boulevard, Suite 1100, Portland, OR 97232. Comments received will also be available for public inspection, by appointment, during normal business hours by calling (503) 230-5418.

FOR FURTHER INFORMATION CONTACT: Craig Busack at (503) 230-5412 or email: craig.busack@noaa.gov.

SUPPLEMENTARY INFORMATION:

Species Covered in This Notice

Sockeye salmon (Oncorhynchus nerka): endangered, naturally produced and artificially propagated Snake River.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

On May 15, 2012, NMFS received an application, including an HGMP, from the Idaho Department of Fish and Game, a section 10(a)(1)(A) research/enhancement permit for continued operation of the Redfish Lake Sockeye Salmon Captive Propagation program.

The proposed program would increase the abundance of the listed species through artificial propagation and to serve as a safety net to prevent extinction of the Snake River Sockeye Salmon Evolutionarily Significant Unit (ESU), which is listed as endangered under the ESA. The proposed program would maintain the Snake River sockeye salmon broodstock in captivity in several locations, largely at the Springfield Hatchery in eastern Idaho, collect and spawn adult sockeye salmon returning to the Snake River basin, rear juveniles, and release eggs, juveniles, and adult fish into upper Salmon River basin lakes. The proposed program would include best management practices to minimize adverse effects on the ESU. Best management practices would include the use of prudent fish husbandry practices and standard hatchery protocols to ensure health and survival of the program fish, selection of eggs and juveniles in a manner designed to represent to the greatest extent possible the entire genetic spectrum of the founding population, and the conduct of spawning ground surveys to estimate natural spawning escapement and to determine the effects of captive-reared fish on spawner distribution and behavior. An environmental assessment was prepared pursuant to the National Environmental Policy Act (NEPA) by the Bonneville Power Administration (BPA) for its funding of the Snake River sockeye salmon hatchery program, including modifications to the Springfield Hatchery. Because the BPA action is substantially the same as the actions addressed by the proposed ESA permit, because they are both administrative actions that allow IDFG to operate the Snake River sockeye salmon hatchery program consistent with the submitted HGMP and the Springfield Sockeye Hatchery Master Plan, NMFS proposes to adopt the BPA environmental assessment to comply with the NEPA.

Authority

This notice is provided pursuant to section 10(c) of the ESA. NMFS will evaluate the application, associated documents, and comments submitted thereon to determine whether the application meets the requirements of section 10(a)(1)(A) of the ESA. If it is determined that the requirements are met, a permit will be issued to IDFG for the purpose of carrying out the hatchery program. NMFS will publish a record of its final action in the Federal Register.

NEPA requires Federal agencies to conduct an environmental analysis of their proposed actions to determine if the actions may affect the human environment. NMFS expects to take action on an application for a permit under section 10(a)(1)(A) of the ESA. Because NMFS' proposed action is closely linked to the BPA funding action already considered under NEPA, to reduce the potential for substantial redundancy and duplication of effort in complying with NEPA, NMFS is proposing to adopt the BPA environmental assessment for the proposed issuance of the permit. Therefore, NMFS is also seeking public input on its proposed adoption.

Dated: April 30, 2013.
P. Michael Payne,
Chief, Permits and Conservation Division, Office of Protected Resources, National Marine Fisheries Service.

[FR Doc. 2013-10477 Filed 5-2-13; 8:45 am]

BILLING CODE 3510-22-P